DEPARTMENT OF TRANSPORTATION

Federal Highway Administration

Environmental Impact Statement: Lancaster County, Pennsylvania

AGENCY: Federal Highway Administration (FHWA), DOT.

ACTION: Notice of Intent.

SUMMARY: The FHWA is issuing this notice to advise the public that an Environmental Impact Statement will be prepared for the SR 30 Section S01 (US 30) corridor in East Lampeter Township, Salisbury Township, Leacock Township, and Paradise Township, Lancaster County, Pennsylvania.

FOR FURTHER INFORMATION CONTACT: Deborah Suciu Smith, Environmental Specialist, Federal Highway Administration, 228 Walnut Street, Room 536, Harrisburg, Pennsylvania 17101-1720, Telephone: 717-221-3785, or Larry Graeff, Project Manager, Pennsylvania Department of Transportation 2140 Herr Street, Harrisburg, Pennsylvania 17103, Telephone 717-783-5119.

SUPPLEMENTARY INFORMATION: The FHWA, in cooperation with the Pennsylvania Department of Transportation (PENNDOT) and the Lancaster County Planning Commission, will prepare an Environmental Impact Statement (EIS) to identify and evaluate alternatives to address transportation problems within the SR 30 Section S01 corridor. The proposed project study area runs approximately from the PA 896/U.S. 30 intersection on the west and the PA 897/U.S. 30 intersection on the east, including the intersection with PA 41.

Notices of Intent concerning this proposal were previously published in the Federal Register. The Notice published on February 27, 1987 described a two-phase approach to identify and evaluate alternatives that would provide a variable means of relieving traffic congestion on Traffic Route (T.R.) 23 and US 30 in Eastern Lancaster County, Pennsylvania. The Notice published on June 16, 1988 announced that separate Environmental Impact Statements to evaluate alternatives for the two projects would be prepared.

Improvements to the corridor are considered necessary to provide for the existing and project traffic demand. A needs study has been undertaken and a range of transportation alternatives, including but not limited to No-Build, Transportation Systems Management (TSM), widening the existing three-lane highways to five lanes, bypasses around communities, and constructing a four-lane limited access highway on new location will be considered. These alternatives will be developed consistent with land use strategies to address the identified transportation needs. The development of alternatives will be based on traffic demands, engineering requirements, environmental and socioeconomic constraints, the county's growth management plan, and public input. Public involvement and inter-agency coordination will be maintained throughout the development of the EIS.

To issue that the full range of issues related to this proposed action are addressed and that all significant issues are identified, comments and suggestions are invited from interested parties. Comments or questions concerning this proposed action and the EIS should be directed to the FHWA at the address above.

(Catalog of Federal Domestic Assistant Program Number 20, 205, Highway Planning and Construction. The regulations implementing Executive Order 12372 regarding intergovernmental consultation on Federal programs and activities apply to this program.)

Issued on: January 15, 2002.
James A. Cheatham,
Division Administrator, Federal Highway Administration, Harrisburg, Pennsylvania.

[FR Doc. 02-1454 Filed 1-18-02; 8:45 am]

BILLING CODE 4910-22-M